DEPARTMENT OF COMMERCE

National Oceanic and Atmospheric Administration

50 CFR Part 679

[Docket No. 131021878-4158-02]

RIN 0648-XD565

Fisheries of the Exclusive Economic Zone Off Alaska; Reallocation of Halibut Prohibited Species Catch Allowances in the Bering Sea and Aleutian Islands Management Area

AGENCY: National Marine Fisheries Service (NMFS), National Oceanic and Atmospheric Administration (NOAA), Commerce.

ACTION: Temporary rule; reallocation.

SUMMARY: NMFS is reallocating projected unused amounts of the 2014 halibut prohibited species catch (PSC) allowance from the Bering Sea and Aleutian Islands trawl (BSAI) limited access sector to the Amendment 80 cooperatives in the BSAI management area. This action is necessary to allow the Amendment 80 cooperatives to fully harvest their 2014 groundfish allocations.

DATES: Effective October 21, 2014, through 2400 hrs, Alaska local time (A.l.t.), December 31, 2014.

FOR FURTHER INFORMATION CONTACT: Steve Whitney, 907-586-7269.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The Administrator, Alaska Region, NMFS, has determined that 80 metric tons of halibut PSC allowance from the BSAI trawl limited access sector will not be needed to support BSAI trawl limited access fisheries. Therefore, in accordance with § 679.91(f)(4), NMFS is reallocating this halibut PSC allowance from the BSAI trawl limited access sector to the Amendment 80 cooperatives in the BSAI.

In accordance with § 679.91(f)(1), NMFS will reissue cooperative quota permits for the reallocated halibut PSC allowances following the procedures set forth in § 679.91(f)(4).

In accordance with § 679.91(f)(4)(i), NMFS will reallocate 95 percent of the halibut PSC reallocated from the BSAI trawl limited access sector to the Amendment 80 cooperatives, which is 76 metric tons.

The 2014 harvest specifications for halibut PSC allowances included in the final 2014 and 2015 harvest specifications in the BSAI (79 FR 12108, March 4, 2014 and 79 FR 35958, June 25, 2014) are revised as follows in Tables 10, 12, and 14:

Table 10—Final 2014 and 2015 Apportionment of Prohibited Species Catch Allowances to Non-Trawl Gear, the CDQ Program, Amendment 80, and the BSAI Trawl Limited Access Sectors
PSC species and area ¹ | Total non-trawl PSC | Non-trawl PSC remaining after CDQ PSQ ² | Total trawl PSC | Trawl PSC remaining after CDQ PSQ ² | CDQ PSQ reserve ² | Amendment 80 sector ³ | BSAI trawl limited access fishery
2014 Halibut mortality (mt) BSAI | 900 | 832 | 3,675 | 3,349 | 393 | 2,401 | 795
2015 Halibut mortality (mt) BSAI | 900 | 832 | 3,675 | 3,349 | 393 | 2,325 | 875
Herring (mt) BSAI | n/a | n/a | 2,172 | n/a | n/a | n/a | n/a
Red king crab (animals) Zone 1 | n/a | n/a | 97,000 | 86,621 | 10,379 | 43,293 | 26,489
C. opilio (animals) COBLZ | n/a | n/a | 11,185,892 | 9,989,002 | 1,196,890 | 4,909,594 | 3,210,465
C. bairdi crab (animals) Zone 1 | n/a | n/a | 980,000 | 875,140 | 104,860 | 368,521 | 411,228
C. bairdi crab (animals) Zone 2 | n/a | n/a | 2,970,000 | 2,652,210 | 317,790 | 627,778 | 1,241,500
¹ Refer to § 679.2 for definitions of zones.
² Section 679.21(e)(3)(i)(A)(2) allocates 326 mt of the trawl halibut mortality limit and § 679.21(e)(4)(i)(A) allocates 7.5 percent, or 67 mt, of the non-trawl halibut mortality limit as the PSQ reserve for use by the groundfish CDQ program. The PSQ reserve for crab species is 10.7 percent of each crab PSC limit.
³ The Amendment 80 program reduced apportionment of the trawl PSC limits by 150 mt for halibut mortality and 20 percent for crab. These reductions are not apportioned to other gear types or sectors.
Note: Sector apportionments may not total precisely due to rounding.

Table 12—Final 2014 and 2015 Prohibited Species Bycatch Allowances for the BSAI Trawl Limited Access Sector
BSAI trawl limited access fisheries | Prohibited species and area ¹: 2014 Halibut mortality (mt) BSAI | Prohibited species and area ¹: 2015 Halibut mortality (mt) BSAI | Prohibited species and area ¹: Red king crab (animals) Zone 1 | Prohibited species and area ¹: C. opilio (animals) COBLZ | Prohibited species and area ¹: C. bairdi (animals): Zone 1 | Prohibited species and area ¹: C. bairdi (animals): Zone 2
Yellowfin sole | 227 | 167 | 23,338 | 3,026,465 | 346,228 | 1,185,500
Rock sole/flathead sole/other flatfish² | 0 | 0 | 0 | 0 | 0 | 0
Turbot/arrowtooth/sablefish³ | 0 | 0 | 0 | 0 | 0 | 0
Rockfish April 15—December 31 | 5 | 5 | 0 | 5,000 | 0 | 1,000
Pacific cod | 353 | 453 | 2,954 | 129,000 | 60,000 | 50,000
Pollock/Atka mackerel/other species⁴ | 210 | 250 | 197 | 50,000 | 5,000 | 5,000
Total BSAI trawl limited access PSC | 795 | 875 | 26,489 | 3,210,465 | 411,228 | 1,241,500
¹ Refer to § 679.2 for definitions of areas.
² “Other flatfish” for PSC monitoring includes all flatfish species, except for halibut (a prohibited species), flathead sole, Greenland turbot, rock sole, yellowfin sole, Kamchatka flounder, and arrowtooth flounder.
³ Arrowtooth flounder for PSC monitoring includes Kamchatka flounder.
⁴ “Other species” for PSC monitoring includes skates, sculpins, sharks, squids, and octopuses.
Note: Seasonal or sector apportionments may not total precisely due to rounding.

Table 14—Final 2014 Prohibited Species Bycatch Allowance for the BSAI Amendment 80 Cooperatives
Cooperative | Prohibited species and zones ¹: Halibut mortality (mt) BSAI | Prohibited species and zones ¹: Red king crab (animals) Zone 1 | Prohibited species and zones ¹: C. opilio (animals) COBLZ | Prohibited species and zones ¹: C. bairdi (animals): Zone 1 | Prohibited species and zones ¹: C. bairdi (animals): Zone 2
Alaska Seafood Cooperative | 1,654 | 29,285 | 3,150,269 | 257,941 | 431,195
Alaska Groundfish Cooperative | 747 | 14,008 | 1,759,325 | 110,580 | 196,583
¹ Refer to § 679.2 for definitions of zones.
Note: Sector apportionments may not total precisely due to rounding.

This will enhance the socioeconomic well-being of harvesters of groundfish dependent upon these halibut PSC allowances. The Regional Administrator considered the following factors in reaching this decision: (1) The current catch and stated future harvesting intent of BSAI trawl limited access sector fisheries and, (2) the harvest capacity and stated intent on future harvesting patterns of the Amendment 80 cooperatives that participates in this BSAI fishery.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of halibut PSC allowances from the BSAI trawl limited access sector to the Amendment 80 cooperatives in the BSAI. Since the fisheries are currently open, it is important to immediately inform the industry as to the revised allocations. Immediate notification is necessary to allow for the orderly conduct and efficient operation of these fisheries, to allow the industry to plan for the fishing season, and to avoid potential disruption to the fishing fleet as well as processors. NMFS was unable to publish a notice providing time for public comment because the most recent, relevant data only became available as of October 14, 2014.

The AA also finds good cause to waive the 30-day delay in the effective date of this action under 5 U.S.C. 553(d)(3). This finding is based upon the reasons provided above for waiver of prior notice and opportunity for public comment.

This action is required by § 679.91 and is exempt from review under Executive Order 12866.

Authority: 16 U.S.C. 1801 et seq.

Dated: October 21, 2014.
Emily H. Menashes,
Acting Director, Office of Sustainable Fisheries, National Marine Fisheries Service.

[FR Doc. 2014-25366 Filed 10-21-14; 4:15 pm]

BILLING CODE 3510-22-P